DEPARTMENT OF AGRICULTURE

Animal and Plant Health Inspection Service

[Docket No. APHIS-2012-0083]

Notice of Request for Revision to and Extension of Approval of an Information Collection; Animal Disease Traceability Information Systems, Agreements, and Reports

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection that will help the Animal and Plant Health Inspection Service to strengthen its animal disease prevention and response capabilities.

DATES: We will consider all comments that we receive on or before March 1, 2013.

ADDRESSES: You may submit comments by either of the following methods:

• Federal eRulemaking Portal: Go to http://www.regulations.gov/#!documentDetail;D=APHIS-2012-0083-0001.

• Postal Mail/Commercial Delivery: Send your comment to Docket No. APHIS-2012-0083, Regulatory Analysis and Development, PPD, APHIS, Station 3A-03.8, 4700 River Road Unit 118, Riverdale, MD 20737-1238.

Supporting documents and any comments we receive on this docket may be viewed at http://www.regulations.gov/#!docketDetail;D=APHIS-2012-0083 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the animal disease traceability data systems, contact Mr. Neil Hammerschmidt, Program Manager, Animal Disease Traceability, VS, APHIS, 4700 River Road Unit 200, Riverdale, MD 20737; (301) 851-3539. For copies of more detailed information on the information collection, contact Mrs. Celeste Sickles, APHIS' Information Collection Coordinator, at (301) 851-2908.

SUPPLEMENTARY INFORMATION: Title: Animal Disease Traceability Information Systems, Agreements, and Reports.

OMB Number: 0579-0259.

Type of Request: Revision to and extension of approval of an information collection.

Abstract: Under the Animal Health Protection Act (AHPA, 7 U.S.C. 8301 et seq.), the Secretary of Agriculture has the authority to issue orders and promulgate regulations to prevent the introduction into the United States and the dissemination within the United States of any pest or disease of livestock. The Animal and Plant Health Inspection Service's (APHIS') regulations in 9 CFR subchapter B govern cooperative programs to control and eradicate communicable diseases of livestock. The regulations in 9 CFR subchapter C establish requirements for the interstate movement of livestock to prevent the dissemination of diseases of livestock within the United States. Knowing where diseased and at-risk animals are, where they have been, and when, is indispensable in emergency response and in ongoing disease control and eradication programs. To provide a system that could provide for animal traceability, APHIS developed the Animal Disease Traceability (ADT) framework and ADT information systems. The basic data APHIS acquires through the ADT information systems will help APHIS obtain timely information on animal movement tracebacks and trace forwards when responding to an animal disease of concern.

The framework for ADT provides the basic tenets of an improved animal disease traceability capability in the United States and will only apply to animals moved in interstate commerce, be administered by the States and Tribal Nations to provide more flexibility, encourage the use of lower-cost technology, and be implemented transparently through Federal regulations. APHIS is adopting these tenets for animal disease traceability while using investments previously made on information systems, such as official animal identification devices and other areas where States and Tribes had achieved progress through cooperative agreements.

The ADT information systems involve a number of previously approved collection and recordkeeping activities, including animal identification; premises registration; nonproducer participant registration; updates submitted by animal identification number manufacturers and managers; cooperative agreements; cooperative agreement applications; cooperator (State/Tribe) quarterly accomplishment reports; and an identification number management system. These information collection activities were approved by the Office of Management and Budget (OMB) under control number 0579-0259. The ADT information systems require updates to information provided. In addition, producers and operators of feedlots, markets, buying stations, and slaughter plants will have to maintain records associated with their animal movement activities for 2 to 5 years, although these records are already routinely maintained by these entities.

Other activities are being discontinued. APHIS has discontinued the evaluation and listing of animal tracking databases since the activity is now managed by the States and Tribes. APHIS no longer requires reporting of animal movements to premises, so we no longer track individual and group/lot movement records, resulting in a 450,000-hour decrease in the overall burden. APHIS has removed the animal tracking database and movement record entries from the forms of burden. APHIS will no longer require producers to file quarterly progress reports. Finally, APHIS has consolidated its tracking methods for issuance of the various forms of identification. The overall result of discontinuing many of the previously approved activities has led to an overall decrease in estimated annual burden on respondents from 2,832,437 hours to 47,051 hours. In addition, the estimated annual number of respondents has decreased from 500,472 to 106,890.

We are asking OMB to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the information collection on those who are to respond, through use, as appropriate, of automated, electronic, mechanical, and other collection technologies; e.g., permitting electronic submission of responses.

Estimate of burden: The public reporting burden for this collection of information is estimated to average 0.44 hours per response.

Respondents: State and Tribal animal health authorities; animal producers; operators of markets, buying stations, and feedlots; laboratory staff; device manufacturers; and slaughter plant personnel.

Estimated annual number of respondents: 60,315.

Estimated annual number of responses per respondent: 1.77.

Estimated annual number of responses: 106,890.

Estimated total annual burden on respondents: 47,051 hours. (Due to averaging, the total annual burden hours may not equal the product of the annual number of responses multiplied by the reporting burden per response.)

All responses to this notice will be summarized and included in the request for OMB approval. All comments will also become a matter of public record.

Done in Washington, DC, this 20th day of December, 2012 .
Kevin Shea,
Acting Administrator, Animal and Plant Health Inspection Service.

[FR Doc. 2012-31346 Filed 12-28-12; 8:45 am]

BILLING CODE 3410-34-P